DEPARTMENT OF ENERGY

Federal Energy Regulatory Commission

[Docket Nos. CP04-349-000 and CP04-356-000]

Columbia Gas Transmission Corporation; Notice of Intent To Prepare an Environmental Assessment for the Proposed Columbia Pavonia Storage Wells 8901 and 12446 Project and the Pavonia Storage Wells 3731 and 12447 Project and Request for Comments on Environmental Issues

July 2, 2004.

The staff of the Federal Energy Regulatory Commission (FERC or Commission) will prepare an environmental assessment (EA) that will discuss the environmental impacts of Columbia Gas Transmission Corporation's (Columbia) Pavonia Storage Wells 8901 and 12446 Project and Wells 3731 and 12447 Project in Ashland County, Ohio. For the facilities in Docket No. CP04-349-000, Columbia would plug and abandon Well 8901 by replacement because corrosion threatens the integrity of the well. A new storage well would be drilled and designated as Well 12446. For the facilities in Docket No. CP04-356-000, Columbia would plug and abandon Well 3731 by replacement because the well has developed excessive water production and cannot be economically repaired. The new storage well would be designated as Well 12447. Columbia would also abandon by removal the associated interconnecting pipeline and related facilities for the old wells and construct new interconnecting pipeline and appurtenances associated with the new wells. This EA will be used by the Commission in its decision-making process to determine whether the project is in the public convenience and necessity.

If you are a landowner receiving this notice, you may be contacted by a pipeline company representative about the acquisition of an easement to construct, operate, and maintain the proposed facilities. The company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Columbia provided to landowners. This fact sheet addresses a number of typically asked questions, including the use of eminent domain and how to participate in the Commission's proceedings. It is available for viewing on the FERC Internet Web site (www.ferc.gov).

Summary of the Proposed Project

In Docket No. CP04-349-000 Columbia proposes to:

• Plug and abandon Well 8901;

• Abandon by removal all equipment on well line SL-W8901. This would include about 23 feet of 4-inch diameter pipeline, 18 feet of 3-inch-diameter pipeline, 90 feet of 6-inch-diameter pipeline, a 35-barrel steel holding tank, a 16-inch vertical drip, a 4-inch tie-in valve setting, and the existing 4-inch tie-in valve setting for Line SL-W9623;

• Drill new storage Well 12446;

• Construct 75 feet of 6-inch-diameter well line designated as SL-W12446 and 90 feet of 4-inch-diameter well line designated as SL-W9623; and

• Construct a 6-inch orifice meter run, a 6-inch tie-in valve setting, and a 4-inch tie-in valve setting.

In Docket No. CP04-356-000 Columbia proposes to:

• Plug and abandon Well 3731;

• Abandon by removal all equipment on well line SL-W3731. This would include about 20 feet of 3-inch-diameter pipeline, 20 feet of 4-inch-diameter pipeline, and a drip;

• Drill new storage Well 12447;

• Construct 165 feet of 4-inch-diameter pipeline designated as Well Line SL-W12447;

• Construct a 4-inch orifice meter run and a 16-inch vertical drip.

The location of the projects' facilities is shown in appendix 1.¹

¹ The appendices referenced in this notice are not being printed in the Federal Register. Copies of all appendices, other than appendix 1 (maps), are available on the Commission's Web site at the “eLibrary” link or from the Commission's Public Reference and Files Maintenance Branch, 888 First Street, NE., Washington, DC 20426, or call (202) 502-8371. For instructions on connecting to eLibrary refer to the last page of this notice. Copies of the appendices were sent to all those receiving this notice in the mail.

Nonjurisdictional Facilities

No nonjurisdictional facilities would be built as a result of the proposed project.

Land Requirements for Construction

In Docket No. CP04-349-000, the well abandonment and construction of the new well and related pipeline facilities would disturb about 2.4 acres of land. Following construction, about 2.9 acres of land would be maintained as pipeline right-of-way or aboveground facility sites. Similarly, in Docket No. CP04-356-000, the well abandonment and construction of the new well and related pipeline facilities would disturb about 5.1 acres of land. Following construction, about 8.7 acres of land would be maintained as pipeline right-of-way or aboveground facility sites.

The EA Process

The National Environmental Policy Act (NEPA) requires the Commission to take into account the environmental impacts that could result from an action whenever it considers the issuance of a Certificate of Public Convenience and Necessity. NEPA also requires us ² to discover and address concerns the public may have about proposals. This process is referred to as “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² “We”, “us”, and “our” refer to the environmental staff of the Office of Energy Projects (OEP).

The EA will discuss impacts that could occur as a result of the construction and operation of the proposed project under these general headings:

• Geology and soils

• Land use

• Water resources, fisheries, and wetlands

• Cultural resources

• Vegetation and wildlife

• Air quality and noise

• Endangered and threatened species

• Hazardous waste

• Public safety

We will also evaluate possible alternatives to the proposed projects or portions of the projects, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning below.

Currently Identified Environmental Issues

We have already identified several issues that we think deserve attention based on a preliminary review of the proposed facilities and the environmental information provided for the project. This preliminary list of issues may be changed based on your comments and our analysis.

• One federally listed endangered or threatened species, the Indiana bat, may exist in the project area.

• Cultural resources may be affected in the project area.

• Nearby residences may be affected by well drilling noise.

• Two private water wells near the project area could potentially be affected.

Public Participation

You can make a difference by providing us with your specific comments or concerns about the projects. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket Nos. CP04-349-000 and CP04-356-000.

• Mail your comments so that they will be received in Washington, DC on or before August 2, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.”

If you do not want to send comments at this time but still want to remain on our mailing list, please return the Information Request (Appendix 3). If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission(s Rules of Practice and Procedure (18 CFR 385.214) (see appendix 2).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors.

Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to the documents. Go to www.ferc.gov/esubscribenow.htm.

Finally, public meetings or site visits will be posted on the Commission's calendar located at http://www.ferc.gov/EventCalendar/EventsList.aspx along with other related information.

Magalie R. Salas,
Secretary.

[FR Doc. E4-1653 Filed 7-26-04; 8:45 am]

BILLING CODE 6717-01-P